DEPARTMENT OF ENERGY

Western Area Power Administration

Post-2005 Resource Pool, Pick-Sloan Missouri Basin Program—Eastern Division

AGENCY: Western Area Power Administration, DOE.

ACTION: Notice of final power allocations.

SUMMARY: The Western Area Power Administration's (Western) Upper Great Plains Customer Service Region, a Federal power marketing agency of the Department of Energy, announces the Post-2005 Resource Pool Power Allocations (Power Allocations) to fulfill the requirements of the Energy Planning and Management Program (Program). The Power Allocations come from a Federal power resource pool of the long-term marketable resource of the Pick-Sloan Missouri Basin Program—Eastern Division (P-SMBP—ED) that will become available January 1, 2006. This notice also includes Western's responses to public comments on proposed allocations published March 29, 2004.

Final Power Allocations are published to show Western's decisions prior to beginning the contractual phase of the process. Firm electric service contracts, between Western and the allottees in this notice, will provide for allocations of power from the January 2006 billing period through the December 2020 billing period.

DATES: The Power Allocations are effective November 12, 2004.

ADDRESSES: Information about these Power Allocations, including comments, letters, and other supporting documents made or kept by Western in developing the final allocations, are available for public inspection and copying at the Upper Great Plains Customer Service Region, Western Area Power Administration, located at 2900 4th Avenue North, P.O. Box 35800, Billings, MT 59107-5800. Public comments are available online at http://www.wapa.gov/ugp/contracts/post2005/comments.htm.

FOR FURTHER INFORMATION CONTACT: Nancy Senitte, Public Utilities Specialist, Upper Great Plains Customer Service Region, Western Area Power Administration, 2900 4th Avenue North, Billings, MT 59107-1266, telephone (406) 247-7429, e-mail senitte@wapa.gov.

SUPPLEMENTARY INFORMATION: Western published the final Post-2005 Resource Pool Allocation Procedures (Procedures) in the Federal Register (68 FR 67414, December 2, 2003), to implement Subpart C-Power Marketing Initiative of the Program's Final Rule (10 CFR 905), published in the Federal Register (60 FR 54151, October 20, 1995). The Program, developed in part to implement section 114 of the Energy Policy Act of 1992, became effective on November 20, 1995. The goal of the Program is to require planning for efficient electric energy use by Western's long-term firm power customers and to extend Western's firm power resource commitments. One aspect of the Program is to establish project-specific power resource pools and allocate power from these pools to new preference customers.

Western published its proposed allocations in the Federal Register (69 FR 16247, March 29, 2004), and initiated a public comment period. Public information and comment forums on the proposed allocations were held on April 27 and 28, 2004. The public comment period ended on June 28, 2004.

The Procedures, in conjunction with the Post-1985 Marketing Plan (45 FR 71860, October 30, 1980), establish the framework for allocating power from the P-SMBP—ED.

Response to Comments on Proposed Post-2005 Resource Pool Allocations

The comments and responses regarding the allocations of power, paraphrased for brevity when not affecting the meaning of the statement(s), are discussed below.

Comment: Western received a letter supporting the allocation plan for the Post-2005 Resource Pool. Western also received a letter expressing frustration with the process and allocations.

Response: Western exercised its discretion under Reclamation Law in shaping the final Procedures in response to public input provided during the public process in allocating this resource to eligible applicants. Western followed these Procedures in determining the Power Allocations.

Comment: Western received a comment from a current customer concerned with the Post-2005 Resource Pool process overburdening a specific class of existing customers by using a reallocation methodology which does not impact all existing customers equally. The commenter believes this results in an increase to retail power rates for the benefit of new customers under the Post-2005 Resource Pool. The commenter suggests that all customers, regardless of class, should bear the burden of the proposed allocation.

Response: Western agrees that all customers should be impacted equally and the Post-2005 Resource Pool process accomplishes that. Customers who hold allocations from a Western resource pool are impacted the same; as each customer's current allocation is reduced by the same percentage. Western's customers who received allocations from the Post-2000 Resource Pool will see a reduction in their allocations at the same percentage as those who hold allocations from previous marketing initiatives. This process avoids any discrimination among customers.

Comment: Western received a letter from an entity expressing hope that a power allocation to an entity from the Post-2005 Resource Pool would not automatically disqualify other State entities or university units from consideration for power allocations in future.

Response: The determination of future resource pool criteria is outside of this public process.

Final Allocations of Power

The Power Allocations for new customers were calculated using the Procedures. As defined in the Post-1985 Marketing Plan criteria under the Procedures, the summer allocations are 24.84413 percent of total summer load; the winter allocations are 35.98853 percent of total winter load. The final Power Allocations for new eligible customers and the loads these allocations are based upon are as follows:

New customers | 2002 summer season load kilowatts | 2002 winter season load kilowatts | Post-2005 resource pool power allocations: Summer kilowatts | Post-2005 resource pool power allocations: Winter kilowatts
City of Auburn, IA | 515 | 409 | 128 | 147
City of Pocahontas, IA | 4,236 | 2,980 | 1,052 | 1,072
Montana State University—Bozeman, MT | 8,506 | 8,536 | 2,113 | 3,072

The final Power Allocations for new customers listed in the table above are based on the P-SMBP—ED marketable resource available at this time. Firm Electric Service Contracts will be offered to the customers listed in the table above. If the P-SMBP—ED marketable resource is adjusted in the future, Power Allocations may be adjusted accordingly.

Regulatory Procedure Requirements

Regulatory Flexibility Analysis

The Regulatory Flexibility Act of 1980 (5 U.S.C. 601, et seq.) requires Federal agencies to perform a regulatory flexibility analysis if a final rule is likely to have a significant economic impact on a substantial number of small entities and there is a legal requirement to issue a general notice of proposed rulemaking. This action does not require a regulatory flexibility analysis since it is a rulemaking of particular applicability involving rates or services applicable to public property.

Small Business Regulatory Enforcement Fairness Act

Western has determined that this rule is exempt from congressional notification requirements under 5 U.S.C. 801 because the action is a rulemaking of particular applicability relating to rates or services and involves matters of procedure.

Determination Under Executive Order 12866

Western has an exemption from centralized regulatory review under Executive Order 12866; accordingly, no clearance of this notice by the Office of Management and Budget is required.

Dated: September 27, 2004.
Michael S. Hacskaylo,
Administrator.

[FR Doc. 04-22914 Filed 10-12-04; 8:45 am]

BILLING CODE 6450-01-P